DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more entries currently included on one or more of OFAC's sanctions lists.

DATES: See SUPPLEMENTARY INFORMATION for relevant dates.

FOR FURTHER INFORMATION CONTACT: OFAC: Associate Director for the Office of Sanctions Support and Operations, 202-622-6943; Associate Director for Global Targeting, 202-622-2420; or https://ofac.treasury.gov/contact-ofac.

SUPPLEMENTARY INFORMATION:

Electronic Availability

OFAC's sanctions lists and additional information concerning OFAC sanctions programs are available on OFAC's website: https://ofac.treasury.gov.

Notice of OFAC Action

On November 27, 2024, OFAC updated the following names to improve data standardization and consistency and/or to correct records that were published with minor errors. The updated names and relevant sanctions authorities are available at the below URL: https://ofac.treasury.gov/recent-actions/20241127.

(Authority: 31 CFR chapter V.)

Bradley T. Smith,
Director, Office of Foreign Assets Control.

[FR Doc. 2026-02836 Filed 2-11-26; 8:45 am]

BILLING CODE 4810-AL-P